DEPARTMENT OF THE TREASURY

Submission for OMB Review; Comment Request

December 10, 2012.

The Department of the Treasury is planning to submit the following information collection request to the Office of Management and Budget (OMB) for review and clearance in accordance with the Paperwork Reduction Act of 1995, Public Law 104-13.

DATES: Comments should be received on or before February 11, 2013 to be assured of consideration.

ADDRESSES: Send comments regarding the burden estimate, or any other aspect of the information collection, including suggestion for reducing the burden, to Louisa M. Quittman, Director, Financial Education, Office of Consumer Policy, U.S. Department of the Treasury, 1500 Pennsylvania Ave. NW., Washington, DC 20220. (202) 622-5770.

FOR FURTHER INFORMATION CONTACT: Copies of the submission(s) may be obtained by calling (202) 927-5331, email at PRA@treasury.gov, or the entire information collection request maybe found at www.reginfo.gov.

Office of Consumer Policy

OMB Number: 1505-0242.

Type of Review: Revision of a currently approved collection.

Title: Assessing Financial Capability Outcomes.

Abstract: Pursuant to the Title XII of the Dodd-Frank Wall Street Reform and Financial Protection Act (Pub. L. 111-203), the Department of the Treasury is implementing an Assessing Financial Capability Outcomes pilot to determine whether the close integration of financial access (access to an account at a financial institution) and financial education delivered in a timely, relevant, and actionable manner, will create significant impact on the financial behaviors and/or outcomes of participants. The information collected will be used for research, to promote the Treasury's understanding of likely outcomes of financial capability interventions.

Affected Public: Individuals or households, non-profit organizations, state, tribal or local government entities, businesses or other for-profit entities.

Estimated Total Annual Burden Hours: 3,843.

Robert Dahl,
Treasury PRA Clearance Officer.

[FR Doc. 2012-30083 Filed 12-12-12; 8:45 am]

BILLING CODE 4810-25-P